DEPARTMENT OF HEALTH AND HUMAN SERVICES

Health Resources and Services Administration

Agency Information Collection Activities: Submission to OMB for Review and Approval; Public Comment Request; Information Collection Request Title: HIV Quality Measures (HIVQM) Module, OMB No. 0906-0022—Revision

AGENCY: Health Resources and Services Administration (HRSA), Department of Health and Human Services (HHS).

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than September 25, 2019.

ADDRESSES: Submit your comments, including the ICR title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: HIV Quality Measures Module, OMB No. 0906-0022—Revision.

Abstract: HRSA Ryan White HIV/AIDS Program (RWHAP) funds and coordinates with cities, states, and local clinics/community-based organizations to deliver efficient and effective HIV care, treatment, and support to low income people living with HIV. Nearly two-thirds of clients (patients) live at or below 100 percent of the federal poverty level and approximately three-quarters of RWHAP clients are racial/ethnic minorities. Since 1990, the RWHAP has developed a comprehensive system of safety net providers who deliver high quality direct health care and support services to over half a million people living with HIV—more than 50 percent of all people living with diagnosed HIV in the United States.

All parts of the RWHAP must follow the legislative requirements for the establishment of clinical quality management programs to assess their HIV services according to the most recent HHS guidelines and to develop strategies to improve access to quality HIV services. The HIVQM Module supports recipients and sub recipients in their clinical quality management, performance measurement, service delivery, and monitoring of client health outcomes; and supports the requirement imposed by the Uniform Administrative Requirements, Cost Principles, and Audit Requirements for HHS Awards that recipients relate financial data to performance accomplishments of their federal awards. 45 CFR 75.301. The module is accessible via the Ryan White Services Report, an existing online portal that RWHAP recipients already use for required data collection of their services. While the use of the module is voluntary for RWHAP recipients, its use is strongly encouraged.

The HRSA performance measures are comprised of the following categories: (1) Core medical services, (2) all ages, (3) adolescent/adult, (4) children with HIV, (5) HIV-exposed children, (6) medical case management, (7) oral health, (8) AIDS Drug Assistance Program, and (9) systems level performance measures. Recipients can choose the performance measures they want to monitor and may enter data on their measures into the module up to four times a year and then generate reports to assess their performance. Recipients may also compare their performance against other recipients regionally and nationally.

A 60-day notice was published in the Federal Register on March 14, 2019, vol. 84, No. 50; pp. 9362-63. There were four public comments.

Need and Proposed Use of the Information: The HIVQM Module provides recipients an easy-to-use and structured platform to voluntarily and continually monitor their performance. The main purpose for the module is to help recipients set goals and monitor performance measures and quality improvement projects. For this revised ICR, HRSA is proposing to allow recipients the option to enter data for specific populations for a subset of performance measures based on age, gender, race, ethnicity, and specific risk factors, which will allow for target services and quality improvement activities to people most at need. In addition, recipients will be able to generate reports of performance measures, review them stratified by the recipients or their service providers, and compare to results at the state, regional, and national levels. HRSA is proposing these enhancements to increase the functionality and overall usability of the HIVQM Module.

The HIVQM Module was piloted for this revision request in June 2019. Recipients or sub recipients, who submitted data for more than two reporting periods in the last year and represented the use of various data systems, submitted feedback on the new data stratification feature. Their feedback included questions about: (1) How the data stratification feature in the HIVQM Module would differ from and integrate with CAREWare (CW) reporting; and (2) the availability of the template for the data stratification feature. HRSA's responses included describing the interface between CW and the HIVQM Module, explaining how reports will be produced and further explaining why the HIVQM Module will be a useful tool in comparing state, regional, and national performance measure data among recipients/sub recipients who use the HIVQM Module.

Likely Respondents: HRSA RWHAP Part A, Part B, Part C, and Part D recipients and their service providers and the AIDS Drug Assistance Program recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
HIVQM Module | 2,316 | 4 | 9,264 | 6 | 55,584
Total | 2,316 |  | 9,264 |  | 55,584

Maria G. Button,
Director, Division of the Executive Secretariat.

[FR Doc. 2019-18332 Filed 8-23-19; 8:45 am]

BILLING CODE 4165-15-P